DEPARTMENT OF COMMERCE

International Trade Administration

[A-533-889]

Certain Quartz Surface Products From India: Final Results of Antidumping Duty Administrative Review, and Final Determination of No Shipments; 2021-2022

AGENCY: Enforcement and Compliance, International Trade Administration, Department of Commerce.

SUMMARY: The U.S. Department of Commerce (Commerce) is conducting an administrative review of the antidumping duty order on certain quartz surface products (quartz surface products) from India. We determine that Pokarna Engineered Stone Limited (PESL) and Marudhar Rocks International Pvt. Ltd./Marudhar Quartz Surface Private Limited (collectively, Marudhar Rocks) did not make sales of subject merchandise at less than normal value during the period of review (POR) June 1, 2021, through May 31, 2022. We also determine that one company had no shipments.

DATES: Applicable November 20, 2023.

FOR FURTHER INFORMATION CONTACT: Laurel LaCivita or Joy Zhang, AD/CVD Operations, Office III, Enforcement and Compliance, International Trade Administration, U.S. Department of Commerce, 1401 Constitution Avenue NW, Washington, DC 20230; telephone: (202) 482-4243 or (202) 482-1168, respectively.

SUPPLEMENTARY INFORMATION:

Background

On July 7, 2023, Commerce published the Preliminary Results of this review in the Federal Register and invited interested parties to comment on those results.¹ For a complete description of the events that occurred since the Preliminary Results, see the Issues and Decision Memorandum.² Commerce conducted this review in accordance with section 751(a) of the Tariff Act of 1930, as amended (the Act).

¹ See Certain Quartz Surface Products from India: Preliminary Results of Antidumping Duty Administrative Review, Preliminary Determination of No Shipments and Partial Rescission of Antidumping Duty Administrative Review; 2021-2022, 88 FR 43292 (July 7, 2023) (Preliminary Results), and accompanying Preliminary Decision Memorandum (PDM).

² See Memorandum, “Issues and Decision Memorandum for the Final Results of the Administrative Review: Certain Quartz Surface Products from India, 2021-2022,” dated concurrently with, and hereby adopted by, this notice (Issues and Decision Memorandum).

Scope of the Order ³

³ See Certain Quartz Surface Products from India and Turkey: Antidumping Duty Orders, 85 FR 37422 (June 22, 2020) (Order).

The products covered by the Order are quartz surface products from India. For a complete description of the scope, the Issues and Decision Memorandum.

Analysis of Comments Received

All issues raised in the case and rebuttal briefs filed by parties in this review are listed in Appendix I to this notice and addressed in the Issues and Decision Memorandum. The Issues and Decision Memorandum is a public document and is on file electronically via Enforcement and Compliance's Antidumping and Countervailing Duty Centralized Electronic Service System (ACCESS). ACCESS is available to registered users at https://access.trade.gov. In addition, a complete version of the Issues and Decision Memorandum can be accessed at https://access.trade.gov/public/FRNoticesListLayout.aspx.

Final Determination of No Shipments

In the Preliminary Results, we preliminarily determined that 3HQ Surfaces had no shipments of subject merchandise during the POR.⁴ No party filed comments with respect to this preliminary finding, and we received no information to contradict it. Therefore, we continue to find that 3HQ Surfaces had no shipments of subject merchandise during the POR and will issue appropriate liquidation instructions based on the final results of this review.⁵

⁴ See Preliminary Results PDM at 5.

⁵ See Antidumping and Countervailing Duty Proceedings: Assessment of Antidumping Duties, 68 FR 23954 (May 6, 2003) (Automatic Assessment Clarification).

Rates for Companies Not Selected for Individual Examination

For the rate for non-selected respondents in an administrative review, generally, Commerce looks to section 735(c)(5) of the Act, which provides instructions for calculating the all-others rate in a market economy investigation. Under section 735(c)(5)(A) of the Act, the all-others rate is normally “an amount equal to the weighted-average of the estimated weighted-average dumping margins established for exporters and producers individually investigated, excluding any zero or de minimis margins, and any margins determined entirely {on the basis of facts available}.” In this segment of the proceeding, we calculated dumping margins of zero percent for both Marudhar Rocks ⁶ and PESL. Thus, in accordance with the expected method, and consistent with the U.S. Court of Appeals for the Federal Circuit's decision in Albemarle,⁷ in this review, we have assigned the non-selected companies a zero percent margin.

⁶ In the Preliminary Results, we preliminarily determined to collapse Marudhar Rocks and Marudhar Quartz as a single entity for the POR, pursuant to 19 CFR 351.401(f). See Memorandum, “Preliminary Affiliation and Collapsing Memorandum,” dated June 29, 2023. No interested parties filed any comments on Commerce's collapsing decision. We continue to treat the two companies as a single entity for the final results of this administrative review.

⁷ See Albemarle Corp. v. United States, 821 F.3d 1345, 1352 (Fed. Cir. 2016) (Albemarle) (holding that Commerce may only use “other reasonable methods” if it reasonably concludes that the expected method is “not feasible” or “would not be reasonably reflective of potential dumping margins”).

Final Results of the Review

Commerce determines the following estimated weighted-average dumping margins exist for the period June 1, 2021, through May 31, 2022:

Producer/exporter | Weighted- average dumping margin (percent)
Pokarna Engineered Stone Limited | 0.00
Marudhar Rocks International Pvt. Ltd./Marudhar Quartz Surface Private Limited | 0.00
Non-Selected Companies ⁸ | 0.00

Disclosure

⁸ See Appendix II for a full list of the companies not individually examined in this review.

We intend to disclose the calculations performed for Marudhar Rocks for these final results of review to the parties within five days after the date of publication of this notice in the Federal Register, in accordance with 19 CFR 351.224(b). There are no final results calculations to disclose for PESL.

Assessment Rates

Pursuant to section 751(a)(2)(C) of the Act and 19 CFR 351.212(b), Commerce shall determine, and CBP shall assess, antidumping duties on all appropriate entries of subject merchandise in accordance with the final results of this review. For any individually examined respondents whose weighted-average dumping margin is above de minimis, we calculated importer-specific ad valorem duty assessment rates by dividing the total amount of antidumping duties calculated for the examined sales by the total entered value of the examined sales to that importer. Where the respondent did not report entered value, we calculated the entered value in order to calculate the assessment rate. Where either the respondent's weighted-average dumping margin is zero or de minimis within the meaning of 19 CFR 351.106(c)(1), or an importer-specific assessment rate is zero or de minimis, we will instruct CBP to liquidate the appropriate entries without regard to antidumping duties.

Commerce's “automatic assessment” will apply to entries of subject merchandise during the POR produced by PESL or Marudhar Rocks for which the company did not know that the merchandise it sold to an intermediary (e.g., a reseller, trading company, or exporter) was destined for the United States. In such instances, we will instruct CBP to liquidate such entries at the all-others rate if there is no rate for the intermediate company(ies) involved in the transaction.⁹

⁹ See Automatic Assessment Clarification.

For the companies which were not selected for individual examination, we will instruct CBP to assess antidumping duties at an ad valorem assessment rate equal to the company-specific weighted- average dumping margin determined in these final results. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of subject merchandise entered, or withdrawn from warehouse, for consumption on or after the publication date of the final results of this administrative review in the Federal Register, as provided for by section 751(a)(2) of the Act: (1) the cash deposit rate for companies subject to this review will be the rates established in these final results of the review; (2) for merchandise exported by producers or exporters not covered in this review but covered in a prior segment of the proceeding, the cash deposit rate will continue to be the company-specific rate published for the most recent period; (3) if the exporter is not a firm covered in this review, a prior review, or the original investigation but the producer is, then the cash deposit rate will be the rate established for the most recent period for the producer of the merchandise; (4) the cash deposit rate for all other producers or exporters will continue to be 1.02 percent, the all-others rate established in the investigation. These cash deposit requirements, when imposed, shall remain in effect until further notice.

Notification to Importers

This notice serves as a final reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties.

Notification Regarding the Administrative Protective Order

This notice also serves as a reminder to parties subject to the administrative protective order (APO) of their responsibility concerning the return or destruction of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

Notification to Interested Parties

We are issuing and publishing these final results in accordance with sections 751(a)(1) and 777(i)(1) of the Act, and 19 CFR 351.221(b)(5).

Dated: November 13, 2023.
Abdelali Elouaradia,
Deputy Assistant Secretary for Enforcement and Compliance.

Appendix I

List of Topics Discussed in the Issues and Decision Memorandum

I. Summary

II. Background

III. Scope of the Order

IV. Changes Since the Preliminary Results

V. Discussion of the Issues

Comment 1: The Calculation of Constructed Value Profit and Selling Expenses for the Final Results

Comment 2: Whether to Apply an Adverse Inference Regarding Marudhar Rocks' Physical Characteristics Reporting

Comment 3: Whether Commerce Should Accept Marudhar Rocks' Reported Labor, Energy and Variable Overhead

Comment 4: Whether to Treat Marudhar Rocks' Free Samples as U.S. Sales

Comment 5: Capping Freight Revenue Recovered by Marudhar Rocks

VI. Recommendation

Appendix II

List of Companies Not Selected for Individual Examination

1. Antique Granito Shareholders Trust

2. Antique Marbonite Private Limited/Prism Johnson Limited/Shivam Enterprises

3. Argil Ceramics

4. Aro Granite Industries Ltd.

5. Asian Granito India Limited

6. Baba Super Minerals Pvt. Ltd.

7. Camrola Quartz Limited

8. Classic Marble Company Pvt. Ltd.

9. Cuarzo

10. Divya Shakti Granites Ltd

11. Divya Shakti Ltd

12. Esprit Stones Private Limited

13. Global Surfaces Limited

14. Glowstone Industries Pvt. Ltd.

15. Hi Elite Quartz LLP

16. International Stones India Pvt. Ltd.

17. Keros Stone LLP

18. Mahi Granites Private Limited

19. Malbros Marbles and Granites Industries

20. Mountmine Impex Pvt. Ltd.

21. Pacific Industries Limited

22. Pacific Quartz Surfaces LLP

23. Paradigm Stone India Pvt. Ltd.

24. Pelican Buildmat Pvt. Ltd.

25. Pelican Grani Marmo Pvt. Ltd.

26. Pelican Quartz Stone

27. QuartzKraft LLP

28. Renshou Industries

29. RMC Readymix Porselano India Limited

30. Rocks Forever

31. Safayar Ceramics Pvt. Ltd.

32. Satya Exports

33. Southern Rocks and Minerals Pvt. Ltd.

34. Sunex Stones Private Limited

35. Tab India Granites Pvt. Ltd.

36. Venkata Sri Balaji Quartz Surfaces

[FR Doc. 2023-25559 Filed 11-17-23; 8:45 am]

BILLING CODE 3510-DS-P